DEPARTMENT OF EDUCATION

Office of Vocational and Adult Education; Overview Information; National Research Center for Career and Technical Education; Notice Inviting Applications for a New Award for Fiscal Year (FY) 2006

Catalog of Federal Domestic Assistance (CFDA) Number: 84.051A

Dates:

Applications Available: June 11, 2007.

Deadline for Transmittal of Applications: August 10, 2007.

Full Text of Announcement

I. Funding Opportunity Description

Purpose of Program: Section 114(d)(4) of the Carl D. Perkins Career and Technical Education Act of 2006 (Act) authorizes the Secretary, after consulting with the States, to establish a national research center (Center) to carry out scientifically based research and evaluation, and to conduct dissemination and training activities consistent with the purposes of the Act. Further, section 114(d)(5) of the Act authorizes the Secretary to provide technical assistance, upon request of a State, for the purpose of developing, improving, and identifying the most successful methods and techniques for providing career and technical education programs assisted under the Act. Under the authority of section 114(d)(5), the Secretary will provide technical assistance to States through the Center.

Background Information

The Act, a reauthorization of the Carl D. Perkins Vocational and Technical Education Act of 1998 (Perkins III), continues the commitment to high-quality career and technical education embodied in Perkins III. The Act continues the previous legislation's focus on developing challenging academic and technical standards and assisting students in meeting such standards, including through preparation for high-skill, high-wage, or high-demand occupations in current or emerging professions and in nontraditional fields. The Act is aligned with the principles of the Elementary Secondary Education Act of 1965, as amended (20 U.S.C. 6301 et seq.) (ESEA) in that it promotes the development of services and activities that integrate rigorous and challenging academic course work with career and technical education so that all students can be prepared for postsecondary education and careers.

Consultation Process

Pursuant to section 114(d)(4) of the Act, which requires the Secretary to consult with States before establishing a Center, we used several strategies to conduct consultations and provided a number of opportunities for States and other interested parties to give suggestions regarding the Center. For example, the Department—

(a) Used e-mail to solicit suggestions from State Directors of career and technical education and representatives of professional organizations and associations;

(b) Posted on the Department's Web site an invitation for the public to provide suggestions on what the Department needs to consider when establishing a Center;

(c) Invited State Directors, during the September 2006 Conference of the National Association of State Directors of Career and Technical Education Consortium, to send the Department suggestions on how the Center could best serve their needs; and

(d) Held a meeting with State Directors of career and technical education, representatives of career and technical education professional organizations and associations, and members of the higher education community to discuss their research, evaluation, and technical assistance needs and to request suggestions on how the Center could best serve their respective needs.

We appreciate the time that various interested parties took to provide us with suggestions. We carefully considered the suggestions we received as we determined the focus and activities of the Center as described in this notice.

Required Project Activities

Through this competition, the Secretary will award a cooperative agreement to establish a national research center for career and technical education that implements sections 114(d)(4) and (5) of the Act to—

(a) Carry out scientifically based research and evaluation for the purpose of developing, improving, and identifying the most successful methods for addressing the education, employment, and training needs of participants, including special populations, in career and technical education programs, including research and evaluation in activities such as—

(1) The integration of—

(i) Career and technical instruction; and

(ii) Academic, secondary, and postsecondary instruction;

(2) Education technology and distance learning approaches and strategies that are effective with respect to career and technical education;

(3) State-adjusted levels of performance and State levels of performance that serve to improve career and technical education programs and student achievement;

(4) Academic knowledge and career and technical skills required for employment or participation in postsecondary education; and

(5) Preparation for occupations in high-skill, high-wage, or high-demand business and industry, including examination of—

(i) Collaboration between career and technical education programs and business and industry; and

(ii) Academic and technical skills required for a regional or sectoral workforce, including small businesses (20 U.S.C. 2324(d)(4)(A)(i));

(b) Carry out scientifically based research and evaluation to increase the effectiveness and improve the implementation of career and technical education programs that are integrated with coherent and rigorous content aligned with challenging academic standards, including by conducting research and development, and studies, that provide longitudinal information or formative evaluation with respect to career and technical education programs and student achievement (20 U.S.C. 2324(d)(4)(A)(ii));

(c) Carry out scientifically based research and evaluation that can be used to improve the preparation and professional development of teachers, faculty, and administrators, and to improve student learning in the career and technical education classroom including—

(1) Effective in-service and preservice teacher and faculty education that assists career and technical education programs in—

(i) Integrating those programs with academic content standards and student academic achievement standards, as adopted by States under section 1111(b)(1) of the ESEA; and

(ii) Coordinating career and technical education with industry-recognized certification requirements;

(2) Dissemination and training activities related to the applied research and demonstration activities described in this section of the notice, which may also include serving as a repository for information on career and technical skills, State academic standards, and related materials; and

(3) The recruitment and retention of career and technical education teachers, faculty, counselors, and administrators, including individuals in groups underrepresented in the teaching profession (20 U.S.C. 2324(d)(4)(A)(iii));

(d) Carry out such other research and evaluation, consistent with the purposes of the Act, as the Secretary determines appropriate to assist State and local recipients of funds under the Act (20 U.S.C. 2324(d)(4)(A)(iv));

(e) Conduct dissemination and training activities based upon the research performed by the Center and described in this notice (20 U.S.C. 2324(d)(4)(C)), including—

(1) Developing, for dissemination, information on promising or best practices for enhancing student achievement and performance that are based on scientifically based research, conducted by the Center and others, and that are geared to administrators, teachers, counselors, and policymakers; and

(2) Disseminating information on best practices for the purposes of developing, improving, and identifying the most successful methods and techniques for providing career and technical education programs assisted under the Act (20 U.S.C. 2324(d)(5)); and

(f) Provide technical assistance upon request of a State for the purpose of developing, improving, and identifying the most successful methods and techniques for providing career and technical education programs assisted under the Act (20 U.S.C. 2324(d)(5)).

Cooperative Agreement, Program Requirements, Application Requirements, Priorities and Definitions Cooperative Agreement:

The Secretary plans to make an award to the Center under the terms of a cooperative agreement. The Secretary expects to have substantial involvement with the grantee during the performance of the funded project. Substantial involvement on the part of the Department includes:

(a) Direct operational involvement in the review and approval of project activities.

(b) Continuing and regular participation in the project.

(c) Halting an activity immediately if detailed performance specifications or requirements are not met.

(d) Reviewing and approving one stage of work before the Center can begin a subsequent stage during the project period.

(e) Collaborating or participating jointly with the Center in the assisted activities.

Program Requirements:

To ensure the high quality of the Center and the accomplishment of the goals and purposes of sections 114(d)(4) and (5) of the Act, the Secretary establishes the following requirements for this competition:

(a) Center Director. The grantee institution must appoint a full-time Director for the Center.

(b) Advisory Committee. (1) The grantee institution must establish an advisory committee to provide the Center with advice and a diversity of perspectives on the—

(i) Research, evaluation, and technical assistance needs of the career and technical education community;

(ii) Center's scientifically based research;

(iii) Center's dissemination activities;

(iv) Center's technical assistance activities; and

(v) Other activities undertaken and materials published by the Center, in carrying out the purposes of the Act.

(2) Each applicant must budget for, and include in its application, preliminary plans for an advisory committee. The preliminary plans must describe the composition of the advisory committee, including the affiliations, professional qualifications, and proposed length of service of potential advisory committee members.

(3) After the cooperative agreement is awarded, the Center must provide, for the Department's approval, a detailed plan for the advisory committee, including reasonable assurances that persons identified as members will serve in the capacity stated in the detailed plan.

(c) Project meetings. The applicant must plan and budget for—

(1) The Center Director to attend a two-day meeting in Washington, DC at least once a year, for each year of the project to review performance and discuss the Center's plans for scientifically based research, evaluation, dissemination, professional development and technical assistance;

(2) The Center Director and other key staff to attend the following:

(i) A two-day post-award conference with program officials in Washington, DC that will be held within 30 days after the date of the grant award notice. The purpose of this conference will be to—

(A) Review and discuss the terms of the cooperative agreement between the Center and the Department;

(B) Review and discuss the applicant's plans for the scientifically based research, evaluation, dissemination, professional development, and technical assistance to be carried out by the Center over the five years of the project period;

(C) Discuss and establish how the grantee institution, the Center and the Department will work together as partners, under the terms of the cooperative agreement, to accomplish the purposes of the grant award; and

(D) Establish specific lines of communication and feedback between the Center and the Department.

(ii) A one-day annual performance review with program officials in Washington, DC at the end of each project year.

(d) Alignment and Consultation. (1) To the extent possible, the Center must align its professional development activities with those professional development activities carried out—

(i) By “eligible agencies” and “eligible recipients,” as those terms are defined in sections 3(12) and 3(14) of the Act (20 U.S.C. 2302(12) and (14)); and

(ii) Under the ESEA and the Higher Education Act of 1965 (20 U.S.C. 1001 et seq.).

(2) In order to exchange information, avoid duplication of effort, pool resources, and improve the overall effectiveness of the Center's activities, the Center must, to the extent possible, consult with the sponsors of activities that are similar or related to its activities, especially activities of the Department's Policy and Program Studies Service (the lead office for the National Assessment of Career and Technical Education), Office of Elementary and Secondary Education, Office of Postsecondary Education, Office of Special Education and Rehabilitative Services, Comprehensive Centers (particularly the National High School Center), National Research and Development Centers, and Regional Educational Labs. In addition, the Center must consult with the National Science Foundation; national career and technical education professional associations or organizations; and other similar or related agencies, organizations, associations, and activities.

(e) Publications. The Center must establish an effective quality control process for all publications resulting from or used in the Center's research, dissemination, technical assistance, and professional development activities.

(f) Evaluation and GPRA Measures. (1) The applicant must budget for and include preliminary plans in the application for an independent evaluator to—

(i) Conduct an ongoing evaluation of the Center's effectiveness; and

(ii) Annually measure and report on the GPRA measures identified in the Performance Measures section of this notice.

(2) The preliminary plans must describe—

(i) The methods of evaluation to be used to measure the effectiveness of the Center; and

(ii) With regard to the GPRA measures, (A) the composition of the expert panels that the Center's evaluator will use to assess the Center's performance under paragraphs (a) and (b) of the Performance Measures section of this notice, including the affiliations and professional qualifications of panel members; (B) how the Center plans to ensure the objectivity of the expert panels; and (C) the procedures the Center will use, as required by paragraphs (c) and (d) of the Performance Measures section of this notice, to assess the usefulness and quality of the technical assistance services and professional development activities the Center provides.

(3) After the cooperative agreement is awarded, the Center must provide, for the Department's approval, a detailed plan for conducting the evaluation and measuring and reporting on the GPRA measures.

(4) The results of the evaluation must be submitted to the Secretary in an interim evaluation report during the third year of the project and in a final evaluation report during the fifth year of the project.

(5) The results of the evaluation must be used to provide feedback for continuous improvement in the operation of the Center.

(6) In determining the overall effectiveness of the Center, the evaluation must take into account the Center's performance on the Government Performance and Results Act of 1993 (GPRA) measures of effectiveness identified in the Performance Measures section of this notice.

(g) Contingency Plan. During the final year of the five-year project period, the Center must develop and be prepared to implement a contingency plan for completing all substantive work by the end of the eleventh month of the final project year and transferring all the products, data, services, materials, and research studies to a successor Center during the twelfth month of the final project year.

Application Requirements:

Applicants must plan for a 10-month project period for the first year of the project to enable the Center to establish a July-to-June project period for the second through the fifth year of the project and to align the Center's activities with the academic year.

Applicants must include, in addition to the items identified in paragraphs (b)(2), (c), and (f) of the Program Requirements, the following in their applications—

(a) Research Plan. A plan that describes the strategies and approaches the applicant intends to use to carry out the scientifically based research and evaluation activities described in section 114(d)(4) of the Act and in the Required Project Activities section of this notice. The plan must be a focused program of scientifically based research that consists of a set of tightly linked studies that build on each other;

(1) In the research plan, applicants must include—

(i) Research studies that are fully consistent with the standards in the definition of the term “scientifically based research,” contained in section 3(25) of the Act and in the Definitions section of this notice.

(ii) Significant research studies that focus on the improvement of teaching and student outcomes.

(iii) Research strands, that is, thematic research areas, including the specific research studies for each strand or area for the first two years of the project period, on which the applicant plans to focus during the five years of the project. The proposed studies—

(A) Must represent a balance of secondary and postsecondary studies; and

(B) Can be a mix of short-term and longitudinal research studies.

(iv) Individual research proposals for studies the applicant intends to initiate during the first two years of the project period. These research proposals must provide a critical review (i.e., a discussion of the strengths and weaknesses of studies that are reviewed) of the relevant literature, the theoretical rationale, clear and specific research questions, and a description of the methods and procedures, along with any instrumentation, that will be used. If a proposed research study builds on one or more existing studies, the applicant must include enough information for the Secretary to assess whether—

(A) The study was well-designed and implemented, and addressed research questions of practical and policy importance; and

(B) Scientifically based research standards were followed.

(v) Areas where further research is most likely to identify highly effective approaches, methods, programs, models, or strategies.

(2) The application must also include information that demonstrates the applicant's performance history in scientifically based research. As evidence of the applicant's performance history, an applicant must provide in the application the full study reports on two scientifically based research studies led by key project research personnel. The study reports must include enough information for the Secretary to be able to assess whether the studies were well-designed and implemented, and addressed research questions of practical and policy importance.

(b) Dissemination Activities Plan. A plan that describes the strategies and approaches the applicant intends to use to carry out efficiently and effectively the dissemination activities described in the Required Project Activities section of this notice, including:

(1) A description of the procedures and methodologies (e.g., expert panels) the applicant intends to use to identify instructional approaches, methods, programs, models, or strategies in career and technical education and related areas that are supported by the strongest evidence of a meaningful, sustained effect on career and technical education participants' education and employment outcomes.

Note: Applicants are encouraged to refer to: (1) How to evaluate whether an intervention is backed by “strong” evidence of effectiveness on the Internet at http://ies.ed.gov/ncee/pubs/evidence_based/evaluation.asp and (2) Identifying and Implementing Educational Practices Supported By Rigorous Evidence: A User Friendly Guide on the Internet at http://www.ed.gov/print/rschstat/pubs/rigorousevid/guide.html.

(2) Strategies and approaches for disseminating to the career and technical education community (e.g., administrators, teachers, counselors, and policy-makers) the findings, results, and reports from the Center's research activities in order to increase the knowledge base of programs and models proven effective in scientifically based research.

(3) Strategies and approaches for identifying and disseminating to the career and technical education community information from other sources of relevant research in order to increase the knowledge base of career and technical education programs and models that have been proven effective in scientifically based research.

(c) Technical Assistance Plan. A plan that describes the strategies and approaches the applicant will use to carry out the technical assistance activities described in the Required Project Activities section of this notice in the most cost-effective and efficient manner, including a description of how the Center will—

(1) Respond to a need identified by a State, including how the Center will coordinate with a State on providing the State with appropriate technical assistance;

(2) Provide activities intended to reach a large number or proportion of career and technical education programs, teachers, and administrators in a State;

(3) Assist a State in implementing, identifying, or improving State levels of performance that improve career and technical education programs and student achievement;

(4) Assist a State to improve the data quality of its State accountability systems, including the:

(i) Processes that strengthen the reliability, validity, and integrity of data collection and analysis.

(ii) Accessibility of appropriate and timely data.

(iii) Accuracy of descriptions of performance.

(iv) Collection processes that yield unbiased, unprejudiced, and impartial data results.

(v) Presentation of the data so that the data clearly provide an accurate assessment of performance; and

(5) Provide State and local educational agencies, educators, and other program providers with technical assistance in replicating instructional approaches, methods, programs, models, or strategies shown to be effective using scientifically based research.

(d) Professional Development Plan. A plan that describes the strategies and approaches the applicant will use to carry out the professional development activities described in the Required Project Activities section of this notice in the most cost-effective and efficient manner, including strategies and approaches that—

(1) Provide high-quality professional development that will improve and increase instructional personnel's knowledge, skills, and ability to help students meet challenging and rigorous academic and career and technical skill proficiencies;

(2) Will advance instructional personnel's understanding of effective instructional strategies that are supported by scientifically based research; and

(3) Are sustained, intensive, and classroom-focused.

Priorities:

We are establishing these priorities for the FY 2006 grant competition and any subsequent year in which we make awards from the list of unfunded applicants from this competition, in accordance with section 437(d)(1) of the General Education Provisions Act (GEPA), 20 U.S.C. 1232(d)(1).

Competitive Preference Priorities: These priorities are competitive preference priorities. Under 34 CFR 75.105(c)(2)(i), we award each application up to an additional 70 points (from 5 to 15 points for each priority, as indicated) depending on how well the application meets one or more of these priorities. The points awarded are in addition to any points the application earns under the selection criteria for this competition, provided elsewhere in this notice.

These priorities are:

(a) Technical Assistance Priorities

1. Use of Technical Skills Assessments Priority: We award up to 5 points to an application that proposes to—

(i) Inform States of the availability of valid and reliable technical skills assessments; and

(ii) Assist States in selecting appropriate, valid, and reliable technical skills assessments.

2. Enhancing Student Academic and Technical Skills Achievement and Performance Priority: We award up to 15 points to an application that proposes to provide educational agencies, educators, and other program providers with technical assistance on replicating current promising or best practices in instructional approaches, methods, programs, models, or strategies, including approaches, methods, programs, models, or strategies that are accepted by the field as effective for the purpose of enhancing student academic and technical skills achievement and performance, including the academic and technical skills achievement and performance of students preparing for employment in nontraditional fields, and those that have been shown to be effective using scientifically based research.

(b) Scientifically Based Research Priorities

1. Use of Technical Skills Assessments Priority: We award up to 10 points to an application that proposes—

(i) Activities that investigate the—

(A) Availability, at the national, State, and local levels, of valid and reliable technical skills assessments that are aligned with industry-recognized standards; and

(B) Extent to which States and local eligible recipients use valid and reliable technical skills assessments that are aligned with industry-recognized standards, to measure the attainment of technical skills proficiencies by career and technical education students; and

(ii) Activities that encourage the development of valid and reliable technical skills assessments that are aligned with industry-recognized standards in technical skills areas where none previously existed.

2. Student Outcomes Priority: We award up to 15 points to an application that proposes studies that will examine programs and practices designed to improve student outcomes in career and technical education.

3. Academic Achievement Priority: We award up to 15 points to an application that proposes studies that investigate and validate whether curricula that integrate coherent and rigorous content that is aligned with challenging academic standards (e.g., at the secondary level, reading and language arts, mathematics, and science) and challenging career and technical skill proficiencies results in improvements in the academic achievement of students, including special populations, enrolled in career and technical education programs.

4. Programs of Study Priority: We award up to 10 points to an application that proposes activities that—

(i) Promote improvements in career and technical education programs of study (i.e., implementing career and technical education programs that (A) incorporate secondary education and postsecondary elements, (B) include coherent and rigorous content aligned with challenging academic standards and relevant career and technical content in a coordinated, non-duplicative progression of courses that align secondary education with postsecondary education to adequately prepare students to succeed in postsecondary education, (C) may include the opportunity for secondary education students to participate in dual or concurrent enrollment programs or other ways to acquire postsecondary education credits, and (D) lead to an industry-recognized credential or certificate at the postsecondary level, or an associate or baccalaureate degree); and

(ii) Encourage States to adopt these improvements in career and technical education programs of study statewide in programs operated by eligible recipients and postsecondary institutions.

Definitions:

Career and technical education means organized educational activities that—

(a) Offer a sequence of courses that—

(1) Provides individuals with coherent and rigorous content aligned with challenging academic standards and relevant technical knowledge and skills needed to prepare for further education and careers in current or emerging professions;

(2) Provides technical skills proficiency, an industry-recognized credential, a certificate, or an associate degree; and

(3) May include prerequisite courses (other than remedial courses) that meet the requirements of this definition; and

(b) Include competency-based applied learning that contributes to the academic knowledge, higher-order reasoning and problem-solving skills, work attitudes, general employability skills, technical skills, and occupation-specific skills, and knowledge of all aspects of an industry, including entrepreneurship, of an individual. (20 U.S.C. 2302(5))

Coherent sequence of courses means a series of courses in which career and academic education is integrated, and that directly relates to, and leads to, both academic and occupational competencies. The term includes competency-based education and academic education, and adult training or retraining, including sequential units encompassed within a single adult retraining course that otherwise meet the requirements of this definition.

Institution of higher education means—

(a) An educational institution in any State that—

(1) Admits, as regular students, only persons having a certificate of graduation from a school providing secondary education or the recognized equivalent of such a certificate;

(2) Is legally authorized within such State to provide a program of education beyond secondary education;

(3) Provides an educational program for which the institution awards a bachelor's degree or provides not less than a two-year program that is acceptable for full credit toward such a degree;

(4) Is a public or other nonprofit institution; and

(5) Is accredited by a nationally recognized accrediting agency or association or, if not so accredited, is an institution that has been granted preaccreditation status by such an agency or association that has been recognized by the Secretary of Education for the granting of preaccreditation status, and the Secretary of Education has determined that there is satisfactory assurance that the institution will meet the accreditation standards of such an agency or association within a reasonable time.

(b) The term also includes—

(1) Any school that provides not less than a one-year program of training to prepare students for gainful employment in a recognized occupation and that meets the provisions of paragraphs (a)(1), (2), (4) and (5) of this definition.

(2) A public or nonprofit private educational institution in any State that, in lieu of the requirement in paragraph (a)(1) of this definition, admits as regular students, persons who are beyond the age of compulsory school attendance in the State in which the institution is located. (20 U.S.C. 1001 and 2302(18))

Scientifically based research means research that is carried out using scientifically based research standards, as defined in section 102 of the Education Sciences Reform Act of 2002 (20 U.S.C. 9501). (20 U.S.C. 2302(25))

Scientifically based research standards means research standards that—

(a) Apply rigorous, systematic, and objective methodology to obtain reliable and valid knowledge relevant to education activities and programs; and

(b) Present findings and make claims that are appropriate to, and supported by, the methods that have been employed.

The term includes, appropriate to the research being conducted—

(a) Employing systematic, empirical methods that draw on observation or experiment;

(b) Involving data analyses that are adequate to support the general findings;

(c) Relying on measurements or observational methods that provide reliable data;

(d) Making claims of causal relationships only in random assignment experiments or other designs (to the extent such designs substantially eliminate plausible competing explanations for the obtained results);

(e) Ensuring that studies and methods are presented in sufficient detail and clarity to allow for replication or, at a minimum, to offer the opportunity to build systematically on the findings of the research;

(f) Obtaining acceptance by a peer-reviewed journal or approval by a panel of independent experts through a comparably rigorous, objective, and scientific review; and

(g) Using research designs and methods appropriate to the research question posed. (20 U.S.C. 2302(25) and 9501(18))

Special populations means—

(a) Individuals with disabilities;

(b) Individuals from economically disadvantaged families, including foster children;

(c) Individuals preparing for nontraditional training fields;

(d) Single parents, including single pregnant women;

(e) Displaced homemakers; and

(f) Individuals with limited English proficiency.

(20 U.S.C. 2302(29))

Note: Definitions of the terms “nonprofit,” “private,” and “public” are in 34 CFR 77.1.

Applicants are encouraged to review all applicable definitions in section 3 of the Act.

Waiver of Proposed Rulemaking: Under the Administrative Procedure Act (5 U.S.C. 553), the Department generally offers interested parties the opportunity to comment on proposed non-statutory requirements, definitions, and selection criteria. Section 437(d)(1) of GEPA, however, allows the Secretary to exempt from rulemaking requirements, non-statutory requirements, definitions, and selection criteria governing the first grant competition under a new or substantially revised program authority. This is the first grant competition for this program under section 114(d)(4) and (5) of the Act and, therefore, qualifies for this exemption. In order to ensure timely grant awards, the Secretary has decided to forgo public comment on the non-statutory requirements, definitions, and selection criteria under the authority of section 437(d)(1) of GEPA. These non-statutory requirements, definitions, and selection criteria will apply to the FY 2006 competition only.

Program Authority: 20 U.S.C. 2324(d)(4) and (5).

Applicable Regulations: The Education Department General Administrative Regulations (EDGAR) in 34 CFR parts 74, 75, 77, 80, 81, 82, 84, 85, 86, 97, 98, and 99.

Note: The regulations in 34 CFR part 86 apply to institutions of higher education only.

II. Award Information

Type of Award: Cooperative agreement.

Estimated Available Funds: $2,200,000 for the first 10 months of the project, and $4,500,000 for funding 12-month project periods for each successive 12-month budget period for years two through five. Continuation of funding for the Center is subject to the availability of funds and to the grantee meeting the requirements of 34 CFR 75.253. FY 2006 funds will be used for new awards under this competition.

Estimated Number of Awards: 1.

Note: The Department is not bound by any estimates in this notice.

Project Period: Up to 60 months.

III. Eligibility Information

1. Eligible Applicants: The following entities are eligible to apply under this competition:

(a) Institutions of higher education.

(b) Public or private nonprofit organizations or agencies. (See 34 CFR 75.51, “How to prove nonprofit status.”)

(c) A consortium of institutions of higher education, or of public or private nonprofit organizations or agencies. Eligible applicants seeking to apply for funds as a consortium must comply with the regulations in 34 CFR 75.127-75.129, which address group applications.

2. Cost Sharing and Matching. This competition does not require cost sharing or matching.

IV. Application and Submission Information

1. Address to Request Application Package: Dr. Ricardo Hernandez, U.S. Department of Education, 400 Maryland Avenue, SW., room 11137, Potomac Center Plaza, Washington, DC 20202-7241. Telephone: (202) 245-7818. Or Fax: (202) 245-7837 or e-mail: Ricardo.Hernandez@ed.gov.

If you use a telecommunications device for the deaf (TDD), call the Federal Relay Service (FRS), toll free, at 1-800-877-8339.

Individuals with disabilities may obtain a copy of the application package in an alternate format (e.g., Braille, large print, audiotape, or computer diskette) by contacting the person listed under Alternative Format in section VIII of this notice in this section.

2. Content and Form of Application Submission:

Requirements concerning the content of the application, together with the forms you must submit, are in the application package for this competition.

Page Limit: The application narrative is where you, the applicant, address the selection criteria that reviewers use to evaluate your application. There is no page limit for the application narrative; however, you must use the following standards:

• A “page” is 8.5″ × 11″;, on one side only, with 1″ margins at the top, bottom, and both sides.

• Double space (no more than three lines per vertical inch) all text in the application narrative, including titles, headings, footnotes, quotations, references, and captions, as well as all text in charts, tables, figures and graphs.

• Use a font that is either 12 point or larger or not smaller than 10 pitch (characters per inch).

3. Submission Dates and Times:

Applications Available: June 11, 2007.

Deadline for Transmittal of Applications: August 10, 2007.

Applications for grants under this program may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

4. Intergovernmental Review: This program is not subject to Executive Order 12372 and the regulations in 34 CFR part 79.

5. Funding Restrictions: We reference regulations outlining funding restriction in the Applicable Regulations section of this notice.

6. Other Submission Requirements:

Applications for grants under this competition may be submitted electronically or in paper format by mail or hand delivery.

a. Electronic Submission of Applications.

To comply with the President's Management Agenda, we are participating as a partner in the Governmentwide Grants.gov Apply site. The National Research Center for Career and Technical Education, CFDA Number 84.051A, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the National Research Center for Career and Technical Education at http://www.Grants.gov. You must search for the downloadable application package for this competition by the CFDA number. Do not include the CFDA number's alpha suffix in your search (e.g., search for 84.051, not 84.051A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service:U.S. Department of Education, Application Control Center, Attention: (CFDA Number 84.051A), 400 Maryland Avenue, SW., Washington, DC 20202-4260; or

By mail through a commercial carrier:U.S. Department of Education, Application Control Center, Stop 4260, Attention: (CFDA Number 84.051A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.051A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this program are as follows. The maximum score for each criterion is indicated in parentheses. The maximum score for all the criteria is 105 points.

(a) Quality of project design (30 points). The Secretary considers the quality of the project design.

In determining the quality of the design of the proposed project, the Secretary considers the following factors:

(1) The extent to which the proposed project activities represent a—

(i) Coherent, sustained approach that is exceptional for each of the required research, evaluation, development, dissemination, professional development, and technical assistance activities described in the Required Project Activities section of this notice; and

(ii) Balance between secondary and postsecondary education.

(2) The significance or magnitude of the scientifically based research proposed by the project, especially as it relates to improvement in teaching and student outcomes.

(3) The extent to which the proposed research design includes—

(i) A model in which multiple investigators conduct studies that are coordinated around the research strands or thematic areas on which the applicant proposes to focus; and

(ii) The use of appropriate theoretical models and scientifically based research standards that represent the most rigorous designs appropriate to the research being proposed.

(4) The extent to which the proposed dissemination plan includes: (i) A thorough, high-quality review of the relevant literature to identify current promising or best practices that are accepted by the field as effective and are based on scientifically based research; (ii) a comparably rigorous, objective, and scientific review of instructional approaches, methods, programs, models, or strategies to be disseminated; (iii) a high-quality plan for dissemination activities; and (iv) the use of a variety of effective approaches.

(5) The extent to which the project proposes models for dissemination that incorporate approaches that meet the needs of different communities of users.

(6) The extent to which the professional development activities proposed by the project are of sufficient quality, intensity, and duration to lead to improvements in practice among the recipients of those services.

(7) The extent to which the proposed technical assistance plan reflects in-depth knowledge and understanding of available scientifically valid, research-based practice, evidence-based practice, or both, to improve student achievement in academic and career and technical education, and demonstrates knowledge of, and access to, reliable sources for obtaining such knowledge on an ongoing basis.

(8) The extent to which the proposed project will consult with sponsors of similar or related efforts, and with other appropriate community, State, and Federal resources, such as those of the Department's Policy and Program Studies Service, Comprehensive Centers (particularly the National High School Center), National Research and Development Centers, and Regional Educational Labs.

(b) Institutional capability (15 points). The Secretary considers the institutional capability of the applicant or of consortium members, if the applicant is a consortium. In assessing institutional capability, the Secretary reviews the application to determine the extent to which the applicant understands the state of knowledge and practice related to career and technical education, as evidenced by the depth and breadth of its documented experience in and capacity for—

(1) Conducting scientifically based research, development, evaluation, dissemination, professional development, and technical assistance activities of the type described in the Required Program Activities section of this notice; and

(2) Delivering technical assistance across a range of urban and rural educational settings.

(c) Quality of the management plan (20 points). The Secretary considers the quality of the management plan for the proposed project. In determining the quality of the management plan for the proposed project, the Secretary considers the following factors:

(1) The extent to which the goals, objectives, and outcomes to be achieved by the proposed project are clearly specified and measurable.

(2) The adequacy of the management plan to achieve the objectives of the proposed project on time and within budget, including clearly defined responsibilities, timeliness and milestones for accomplishing project tasks, and a clearly articulated plan for continuous improvement.

(3) The adequacy of procedures for coordination and communication among staff, subcontractors, members of the consortium, if any, and the Department, in particular, for the frequent and detailed communication that will be required under the cooperative agreement between the Center and the Department's Office of Vocational and Adult Education.

(4) The adequacy of mechanisms for ensuring high-quality research and evaluation, dissemination, technical assistance, and professional development from the proposed project.

(5) The adequacy of the plans for an objective independent assessment, in accordance with the Program Requirements section of this notice, of the Center's performance on the GPRA measures.

(d) Quality of personnel (20 points). The Secretary considers the quality of the personnel who will carry out the proposed project. In determining the quality of project personnel, the Secretary considers the following:

(1) The extent to which the application presents evidence of the Center Director and key personnel having a history of conducting high-quality scientifically based research, including whether the studies described as evidence of the applicant's performance history were well-designed and implemented, and addressed research questions of practical and policy importance.

(2) The extent to which the application presents evidence of professional preparation and successful prior experience of the Center's director and other key personnel, including contractors, key consultants, and partners, if any, that indicate that each has the knowledge, skills, and ability to carry out successfully the responsibilities they are assigned under the project, including the—

(i) Center Director's and key personnel's expertise and demonstrated successful experience with scientifically based research, effective technical assistance, and other activities similar to those that are to be carried out under the project; and

(ii) Demonstrated effectiveness of the Center Director and key personnel in providing technical assistance that utilizes scientifically based research and improves the academic and technical skill proficiencies of career and technical education students.

(3) The extent to which the time commitments of the Center Director and key personnel are appropriate and adequate to meet proposed project objectives.

(4) The extent to which the Center Director has prior relevant experience operating a project of the size and scope required for the purposes of the Center.

(5) The extent to which the applicant encourages applications for employment from persons who are members of groups that have traditionally been underrepresented based on race, color, national origin, gender, age, or disability.

(e) Adequacy of resources (10 points). The Secretary considers the adequacy of resources for the proposed project. In determining the adequacy of resources for the proposed project, the Secretary considers the following factors:

(1) The adequacy of resources for the proposed project, including facilities, equipment, supplies, and other resources needed to carry out successfully the purpose and activities of the proposed project.

(2) The extent to which the budget is adequate to support the proposed project.

(3) The extent to which the costs are reasonable in relation to the objectives, design, and significance of the proposed project.

(f) Evaluation (10 points). The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation provide for examining the effectiveness of project implementation strategies.

(3) The extent to which the methods of evaluation will provide timely guidance for quality assurance.

(4) The extent to which the methods of evaluation—

(i) Include the use of objective performance measures that are clearly related to the intended outcomes of the project;

(ii) In determining the overall effectiveness of the Center, take into account the Center's performance on the GPRA measures in the Performance Measures section of this notice; and

(iii) Will produce quantitative and qualitative data, to the extent possible.

(5) The extent to which the methods of evaluation will ensure feedback on performance and continuous improvement in the operation of the proposed project.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the Center grant.

3. Reporting. (a) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

(b) In addition, the Center must submit to the Secretary the following reports:

(1) Monthly exception reports that describe—

(i) Any problems, delays, or adverse conditions that materially impair the ability of the Center to accomplish its purposes, along with an explanation of any action taken or contemplated to resolve the difficulties; and

(ii) Any favorable developments that will permit the Center to accomplish its purposes sooner, at less cost, or more effectively than projected.

(2) Semi-annual performance reports.

(3) During the first 10 months of the project, financial status reports within 30 days of the 90th day, 180th day, and 270th day of the project period.

(4) Three printed copies and one electronic copy (pdf) of all substantive reports and products.

(5) An interim evaluation report in the third year of the project period and a final evaluation report in the fifth year of the project period.

(6) An annual report on the GPRA measures identified in the Performance Measures section of this notice.

(c) The Center must annually prepare a report of the key research findings of the Center and submit copies of the report to the Secretary, the relevant committees of Congress, the Library of Congress, and each “eligible agency,” as defined in section 3(12) of the Act.

4. Performance Measures: Under GPRA, Federal departments and agencies must clearly describe the goals and objectives of programs, identify resources and actions needed to accomplish goals and objectives, develop a means of measuring progress made, and regularly report on achievement. One important source of program information on successes and lessons learned is the project evaluation conducted under individual grants. In evaluating the overall effectiveness of the Center, the Center must also be prepared to measure and report annually on the following measures of effectiveness:

a. The percentage of scientifically based research studies conducted by the Center that are of high relevance to career and technical education practices as determined by expert panels.

b. The percentage of products (e.g., instructional approaches, methods, programs, models, and strategies) disseminated to practitioners by the Center that are judged by expert panels to be of high quality.

c. The percentage of technical assistance services that are judged by target audiences to be of high usefulness to educational policy or practice.

d. The percentage of professional development activities offered by the Center that are judged by participants to be of high quality.

VII. Agency Contacts

For Further Information Contact: Dr. Ricardo Hernandez, U.S. Department of Education, 400 Maryland Avenue, SW., room 11137, Potomac Center Plaza, Washington, DC 20202-7241. Telephone: (202) 245-7818, Fax: (202) 245-7837, or by e-mail: Ricardo.Hernandez@ed.gov.

If you use a TDD, call the FRS at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You may view this document, as well as all other documents of the Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Troy R. Justesen,
Assistant Secretary for Vocational and Adult Education.

[FR Doc. E7-11135 Filed 6-8-07; 8:45 am]

BILLING CODE 4000-01-P